DEPARTMENT OF HOUSING AND URBAN DEVELOPMENT

[Docket No. FR-4456-N-23]

Privacy Act of 1974; Notice of Amended Systems of Records

AGENCY: Office of the Chief Information Officer, HUD.

ACTION: Notice; Proposed amendment to eight existing Privacy Act systems of records.

SUMMARY: Pursuant to the provisions of the Privacy Act of 1974, as amended (5 U.S.C. 552a), the Department is amending eight Privacy Act systems of records. The major revisions to these systems are the addition of new routine use disclosures. Additionally, the revisions expand the description of the categories of records and individuals in the systems and reflect changes in the systems' name, location and new system managers resulting from organizational changes and restructuring. The eight amended systems are: HUD/Dept-46, HUD/H-7, HUD/H-5, HUD/Dept-10, HUD/H-6, HUD/Dept-20, HUD/Dept-43 and HUD/Dept-4. The specific revisions made in each system of records follow. HUD/H-7 was revised to amend the name of the system, change the storage and retrievability policies and to indicate a new system manager. HUD/Dept-46 was amended to revise the system name and location, expand the categories of individuals and records in the system, and to add four new routine use disclosures. HUD/H-5 was revised to expand the categories of individuals and records covered by the system, change the location of the system, change the retention and disposal, reflect a new system manager and to add four new routine use disclosures. HUD/H-6 has been amended to change the system's name and location, to add ten new routine use disclosures and to reflect the name of the new system manager. The following changes were made to HUD/Dept-20: seven new routine use disclosures were added, the system name and location was changed, revised the categories of records, a new system manager was added, and changes were made to the retention and disposal. HUD/Dept-10 reflects changes in the system's name and location, a new system manager, and the addition of five new routine use disclosures. HUD/Dept-43 has been amended to include a new routine use disclosure, changes were made to the system's name, storage and retention practices, and the name of the system manager was revised. Finally, HUD/Dept-4 was revised to change the name and location of the system, to add a new routine use disclosure, and to add the name of the new system manager. All of the systems of records are published in their entirety below.

Effective Date: This action shall be effective without further notice on December 12, 2002 unless comments are received during or before this period that would result in a contrary determination.

Comment Due Date: December 12, 2002.

ADDRESSEES: Interested persons are invited to submit comments regarding these amended systems of records to the Rules Docket Clerk, Office of General Counsel, and room 10276, Department of Housing and Urban Development, 451 Seventh Street, SW., Washington, DC 20410-0500. Communications should refer to the above docket number and title. An original and four copies of comments should be submitted. Facsimile (FAX) comments are not acceptable. A copy of each communication submitted will be available for public inspection and copying between 7:30 a.m. and 5:30 p.m. weekdays at the above address.

FOR FURTHER INFORMATION CONTACT: Jeanette Smith, Departmental Privacy Act Officer, Telephone Number (202) 708-2374. (This is not a toll-free number). A telecommunications device for hearing- and speech-impaired persons (TTY) is available at 1-800-877-8339 (Federal Information Relay Services). (This is a toll-free number).

SUPPLEMENTARY INFORMATION: Pursuant to the Privacy Act of 1974 (5 U.S.C. 5552a), as amended notice is given that HUD proposes to amend eight systems of records.

Title 5 U.S.C. 552a(e)(4) and (11) provide that the public be afforded a 30-day period in which to comment on the changes to the systems of records.

The amended system report was submitted to the Office of Management and Budget (OMB), the Senate Committee on Governmental Affairs, and the House Committee on Government Operations pursuant to paragraph 4c of Appendix 1 to OMB Circular A-130, “Federal Responsibilities for Maintaining Records About Individuals,” July 25, 1994; 59 FR 37914.

Accordingly, the eight amended systems of records are published in their entirety below.

Authority: 5 U.S.C. 552a 88 Stat. 1896; 342 U.S.C. 3535(d).

Dated: October 31, 2002.
Gloria R. Parker,
Chief Technology Officer.

HUD/H-7

System name:

Previous Participation Review System (PPRS F19), and Active Partners Performance System (APPS F24P) Previous Participation Files.

System location:

HUD Headquarters and field offices.

Categories of individuals covered by the system:

Principals (owners, general contractors, management agents, consultants and packagers) in HUD multifamily housing programs.

Categories of records in the system:

Information concerning the Department's consideration/approval/disapproval of HUD multifamily housing program principals, including names and Social Security Numbers of principals; lists of prior HUD projects; summaries of financial, management, or operational difficulties with prior HUD projects (if any); indication of whether principals are or have been the subject of a government investigation; other information relevant to the standards for previous participation approval; minutes of deliberative meetings. Both F19 and F24P contain flags and the reason for the flag on an external individual or company participant.

Authority for maintenance of the system:

Section 7(d), Department of HUD Act, 79 Stat. 670, (42 U.S.C. 3535(d)).

Routine uses of records maintained in the system, including categories of users and the purposes of such uses:

In addition to those disclosures generally permitted under 5 U.S.C. 552a(b) of the Privacy Act, other routine uses are as follows: To state and local governments participating in HUD housing programs as co-insurers or finance agencies—to assist in project application reviews.

Policies and practices for storing, retrieving, accessing, retaining, and disposing of records in the system:

Storage:

Paper support files are stored in file folders in locked filing cabinets in a secure room. F19 runs on the UNISYS system and F24P runs on a LAN SERVER. It is an Internet/Intranet application.

Retrievability:

Name of principal and HUD project case number. F19 is retrievable by Name and Project Number. F24P is retrievable by Name, SSN, Tax ID, Property Name, and Project Number.

Safeguards:

Files are kept in locked filing cabinets in a secure room. Access is limited to authorized personnel. F19 is accessible by Authorized personnel in the Field Offices and Headquarters. F24P is accessible by authorized Business Partners (for each individual's information only), Field Office Staff and Headquarters Staff.

Retention and disposal:

Records are primarily active; disposal is in accordance with HUD Handbook 2225.6 REV-1 on disposition of records.

System manager(s) and address:

Director, Business Performance Review Division, HRDP, Department of Housing and Urban Development, 451 Seventh Street, SW, Washington, DC 20410.

Notification procedure:

For information, assistance, or inquiry about existence of records, contact the Privacy Act Officer at the Headquarters location, in accordance with 24 CFR part 16. This location is given in Appendix A.

Record access procedures:

The Department's rules for providing access to records to the individual concerned appear in 24 CFR part 16. If additional information or assistance is required, contact the Privacy Act Officer at the Headquarters location. A list of all locations is given in Appendix A.

Contesting record procedures:

The Department's rules for contesting the contents of records and appealing initial denials, by the individual concerned, appear in 24 CFR part 16. If additional information or assistance is needed in relation to contesting the contents of records, it may be obtained by contacting the Privacy Act Officer at the appropriate location. A list of all locations is given in Appendix A. If additional information or assistance is needed in relation to appeals of initial denials, it may be obtained by contacting the HUD Departmental Appeals Officer, Office of General Counsel, Department of Housing and Urban Development, 451 Seventh Street, SW, Washington, DC 20410.

Record source categories:

Subject individuals; HUD Field Offices; other governmental agencies.

Exemptions from Certain Provisions of the Act:

None.

HUD/DEPT-46

System name:

Single Family Insured Case Files.

System location:

HUD Headquarters and Single Family Homeownership Centers in Atlanta, Denver, Philadelphia, and Santa Ana.

Categories of individuals covered by the system:

Individuals who have obtained a mortgage under HUD/FHA's single family mortgage insurance programs. Also, individuals who unsuccessfully applied for an insured mortgage requiring processing by HUD underwriters.

Categories of records in the system:

Files contain identifying information about applicants, such as name, Social Security Number, and current address; and records commonly used to determine the credit-worthiness of a potential borrower, such as income and employment information, and credit bureau reports. In addition, the files may contain appraisal and inspection reports, sales agreement, conditional and firm commitments, underwriting worksheets, HUD-1, mortgage note and deed of trust, insurance documents, and correspondence.

Authority for maintenance of the system:

National Housing Act as amended (12 U.S.C. 1702 et seq.)

The information collection enables HUD/FHA to process applications for HUD mortgage insurance and respond to inquiries regarding applications and insured mortgages.

Routine uses of records maintained in the system, including categories of users and the purposes of such uses:

In addition to those disclosures generally permitted under 5 U.S.C. 552a(b) of the Privacy Act other routine uses include:

(a) To the Department of Veteran Affairs for information on veterans' participation.

(b) To complainants and attorneys representing them to review complainant files for status and information.

(c) To the person or firm complained about—for resolution of the complaint.

(d) To Congressional delegations to provide information concerning status of complaints.

(e) To the FBI to investigate possible fraud revealed in underwriting, insuring or monitoring.

(f) To Department of Justice for prosecution of fraud revealed in underwriting, insuring or monitoring.

(g) To General Accounting Office (GAO) for audit purposes.

(h) To financial institutions and computer software companies for automated underwriting, credit scoring and other risk management evaluation studies.

Policies and practices for storing, retrieving, accessing, retaining, and disposing of records in the system:

Storage:

These records are stored in file folders (automated systems containing data from these files are described in separate system of records notices).

Retrievability:

Records are retrieved by case file number.

Safeguards:

Insured case files are shipped to a Federal Records Center within days of receipt at HUD for insurance endorsement processing; retrieval is limited to authorized personnel. Rejected case files and cases in processing are maintained in secure office space with access limited to authorized personnel.

Retention and disposal:

Insured case files are retained for 12 years and rejected cases are retained for one year. Obsolete records are destroyed in accordance with HUD Handbook 2225.6, Records Disposition Management; HUD Records Schedules.

System manager(s) and address:

Director, Office of Insured Single Family Housing, HUA, Department of Housing and Urban Development, 451 Seventh Street SW, Washington, DC 20410.

Notification procedure:

For information, assistance, or inquiry about the existence of records, contact the Privacy Act Officer at the appropriate location, in accordance with 24 CFR part 16. A list of all locations is given in Appendix A.

Record access procedures:

The Department's rules for providing access to records to the individual concerned appear in 24 CFR part 16. If additional information or assistance is required, contact the Privacy Act Officer at the appropriate location. A list of all locations is given in Appendix A.

Contesting record procedures:

The Department's rules for contesting the contents of records and appealing initial denials, by the individual concerned, appear in 24 CFR part 16. If additional information or assistance is needed in relation to contesting the contents of records, it may be obtained by contacting the Privacy Act Officer at the appropriate location. A list of all locations is given in Appendix A. If additional information or assistance is needed in relation to appeals of initial denials, it may be obtained by contacting the HUD Departmental Privacy Appeals Officer, Office of General Counsel, Department of Housing and Urban Development, 451 Seventh Street, SW, Washington, DC 20410.

Record source categories:

Subject individuals, current and previous employers, credit bureaus and financial institutions, corporations and firms and federal and non-federal government agencies.

Exemptions for certain provisions of the Act:

None.

HUD/H-5

System name:

Single Family Computerized Homes Underwriting Management System (CHUMS).

System location:

HUD Headquarters and Single Family Homeownership Centers in Atlanta, Denver, Philadelphia, and Santa Ana.

Categories of individuals covered by the system:

Individuals who have obtained a mortgage insured under HUD/FHA's single family mortgage insurance programs and individuals who unsuccessfully applied for an insured mortgage.

Also, individuals involved in the HUD/FHA single-family underwriting process (builders, fee appraisers, fee inspectors, mortgagee staff appraisers, mortgagee staff underwriters) and HUD employees involved in the single family underwriting process (e.g., staff appraisers, staff mortgage credit examiners, architectural employees, receiving clerks, assignment clerks, commitment clerks, records clerks, and closing clerks).

Categories of records in the system:

Automated files contain name, address, Social Security Number or other identification number; racial/ethnic background, if disclosed, of the mortgagor and information about the mortgage loan. These records also contain the name, address, Social Security Number or other identification number, territory, workload, and minority data (including racial/ethnic background, Minority Business Enterprise (MBE) Code, and sex, for statistical tracking purposes) of builders, fee appraisers, and fee inspectors. These records will further contain the name and identifying number of each mortgagee staff appraiser and each mortgagee staff underwriter and the territory and workload of those individuals. Additionally, the automated files contain identification (name and social security or other identifying number) of HUD employees involved in the single family underwriting process (Homeownership Center managers, staff appraisers, architectural employees, receiving clerks, assignment clerks, commitment clerks, records clerks, and closing clerks).

Authority for maintenance of the system:

Section 203, National Housing Act, Pub. L.L 73-479.

The information collection enables HUD/FHA to process applications for HUD mortgage insurance and respond to inquiries regarding applications and insured mortgages.

Routine uses of records maintained in the system, including categories of users and the purposes of such uses:

In addition to those disclosures generally permitted under 5 U.S.C. 552a(b) of the Privacy Act other routine uses include:

(a) To other agencies; such as, Departments of Agriculture, Education and Veterans Affairs, and the Small Business Administration—for use of HUD's Credit Alert Interactive Voice Response System (CAIVRS) to prescreen applicants for loans or loans guaranteed by the Federal Government to ascertain if the applicant is delinquent in paying a debt owed to or insured by the Government.

(b) To the FBI to investigate possible fraud revealed in underwriting, insuring or monitoring.

(c) To Department of Justice for prosecution of fraud revealed in underwriting, insuring or monitoring.

(d) To General Accounting Office (GAO) for audit purposes.

(e) To financial institutions and computer software companies for automated underwriting, credit scoring and other risk management evaluation studies.

Policies and practices for storing, retrieving, accessing, retaining, and disposing of records in the system:

Storage:

Records are stored on magnetic tape/disc/drum.

Retrievability:

Records are retrieved by name, Social Security Number or other identification number.

Safeguards:

Automated records are maintained in secured areas. Access is limited to authorized personnel.

Retention and disposal:

Computerized records of insured cases are retained for 10 years and those on rejected cases are retained for 3 years.

System manager(s) and address:

Director, Home Mortgage Insurance Division, HUAH, Department of Housing and Urban Development, 451 Seventh Street, SW, Washington, DC 20410.

Notification procedure:

For information, assistance, or inquiry about existence of records, contact the Privacy Act Officer at the appropriate location in accordance with 24 CFR part 16. A list of all locations is given in appendix A.

Record access procedures:

The Department's rules for providing access to records to the individual concerned appear in 24 CFR part 16. If additional information or assistance is required, contact the Privacy Act Officer at the appropriate location. A list of all locations is given in appendix A.

Contesting record procedures:

The Department's rules for contesting the contents of records and appealing initial denials, by the individual concerned, appear in 24 CFR part 16. If additional information or assistance is needed, it may be obtained by contacting: (i) In relation to contesting contents of records, the Privacy Act Officer at the appropriate location. A list of all locations is given in appendix A; (ii) in relation to appeals of initial denials, the HUD Departmental Privacy Appeals Officer, Office of General Counsel, Department of Housing and Urban Development, 451 Seventh Street, SW, Washington, DC 20410.

Record source categories:

Mortgagors, appraisers, inspectors, builders, mortgagee staff appraisers, mortgagee staff underwriters, and HUD employees.

Exemptions for Certain Provisions of the Act:

None.

HUD/DEPT-10

System name:

Single Family Construction Complaints Files.

System location:

HUD Headquarters and Single Family Homeownership Centers in Atlanta, Denver, Philadelphia, and Santa Ana.

Categories of individuals covered by the system:

Mortgagors of insured single family homes that have filed construction complaints with HUD.

Categories of records in the system:

Complaints regarding construction and defects; inspection reports; records of complaint status and disposition; compliance reports; related correspondence.

Authority for maintenance of the system:

National Housing Act, as amended, 12 U.S.C. 1702 et seq.

Routine uses of records maintained in the system, including categories of users and the purposes of such uses:

In addition to those disclosures generally permitted under 5 U.S.C. 552a(b) of the Privacy Act, other routine uses are as follows:

(a) To complainants and attorneys representing them to review complainant files for status and information.

(b) To the person or firm complained about for resolution of the complaint.

(c) To the Department of Veterans Affairs or the Rural Housing Service for coordination with HUD in processing construction complaints.

(d) To Congressional delegations to provide information concerning status of complaints.

(e) To originating and servicing mortgagees to provide information concerning status of complaint.

(f) To state agencies for investigation.

(g) To the FBI to investigate possible fraud revealed in the course of the complaint review.

(h) To Department of Justice for prosecution of fraud revealed in the course of complaint review.

(i) To IRS for investigation.

(j) To General Accounting Office (GAO) for audit purposes.

Policies and practices for storing, retrieving, accessing, retaining, and disposing of records in the system:

Storage:

Records are stored in file folders.

Retrievability:

Records are retrieved by name of subject individual; case file number, property location.

Safeguards:

Records are maintained in lockable file cabinets with access limited to authorized personnel.

Retention and disposal:

Records are partly current and partly historical; disposal is in accordance with HUD Handbook 2225.6, Records Disposition Management; HUD Records Schedules.

System manager(s) and address:

Director, Home Mortgage Insurance Division, HUAH, Department of Housing and Urban Development, 451 Seventh Street, SW, Washington, DC 20410.

Notification procedure:

For information, assistance, or inquiry about existence of records, contact the Privacy Act Officer at the appropriate location, in accordance with 24 CFR part 16. A list of all locations is given in Appendix A.

Record access procedures:

The Department's rules for providing access to records to the individual concerned appear in 24 CFR part 16. If additional information or assistance is required, contact the Privacy Act Officer at the appropriate location. A list of all locations is given in Appendix A.

Contesting record procedures:

The Department's rules for contesting the contents of records and appealing initial denials, by the individual concerned, appear in 24 CFR part 16. If additional information or assistance is needed, it may be obtained by contacting: (i) In relation to contesting contents of records, the Privacy Act Officer at the appropriate location. A list of all locations is given in Appendix A; (ii) in relation to appeals of initial denials, the HUD Departmental Privacy Appeals Officer, Office of General Counsel, Department of Housing and Urban Development, 451 Seventh Street, SW, Washington, DC 20410.

Record source categories:

Subjects and other individuals, builders and contractors and their current and previous employees, credit bureaus and financial institutions; Federal and non-Federal agencies.

Exemptions from Certain Provisions of the Act:

None.

HUD/H-6

System name:

Single Family Section 518 Files (Construction Complaints).

System location:

Headquarters and Single Family Homeownership Centers in Atlanta, Denver, Philadelphia, and Santa Ana.

Categories of individuals covered by the system:

HUD insured owners of one-to-four family dwellings who filed claims because of structural or other major defects found in their homes.

Categories of records in the system:

Name, address, home phone number, property inspection report, disposition of claim information and other information pertinent to the claim.

Authority for maintenance of the system:

Sec. 104, Housing and Urban Development Act of 1970 (Pub. L. 91-609), 12 U.S.C. 1735b.

Routine uses of records maintained in the system, including categories of users and the purposes of such uses:

In addition to those disclosures generally permitted under 5 U.S.C. 552a(b) of the Privacy Act, other routine uses are as follows:

(a) To complainants and attorneys representing them to review complainant files for status and information.

(b) To the person or firm complained about for resolution of the complaint.

(c) To the Department of Veterans Affairs or the Rural Housing Service for coordination with HUD in processing construction complaints.

(d) To Congressional delegations to provide information concerning status of complaints.

(e) To originating and servicing mortgagees to provide information concerning status of complaint.

(f) To state agencies for investigation.

(g) To the FBI to investigate possible fraud revealed in the course of the complaint review.

(h) To Department of Justice for prosecution of fraud revealed in the course of complaint review.

(i) To IRS for investigation.

(j) To General Accounting Office (GAO) for audit purposes.

Policies and practices for storing, retrieving, accessing, retaining, and disposing of records in the system:

Storage:

Records are stored in file folders.

Retrievability:

Records are retrieved by name, case number, and claim number.

Safeguards:

Records are kept in lockable file cabinets with access limited to authorized personnel.

Retention and disposal:

Records are retained for six years and then disposed.

System manager(s) and address:

Director, Home Mortgage Insurance Division, HUAH, Department of Housing and Urban Development, 451 Seventh Street, SW, Washington, DC 20410.

Notification procedure:

For information, assistance, or inquiry about existence of records, contact the Privacy Act Officer at the appropriate location, in accordance with 24 CFR part 16. A list of all locations is given in Appendix A.

Record access procedures:

The Department's rules for providing access to records to the individual concerned appear in 24 CFR part 16. If additional information or assistance is required, contact the Privacy Act Officer at the appropriate location. A list of all locations is given in Appendix A.

Contesting record procedures:

The Department's rules for contesting the contents of records and appealing initial denials, by the individual concerned, appear in 24 CFR part 16. If additional information or assistance is needed, it may be obtained by contacting: (i) In relation to contesting contents of records, the Privacy Act Officer at the appropriate location. A list of all locations is given in Appendix A; (ii) in relation to appeals of initial denials, the HUD Departmental Privacy Appeals Officer, Office of General Counsel, Department of Housing and Urban Development, 451 Seventh Street, SW, Washington, DC 20410.

Record source categories:

Subject individuals and Departmental records.

Exemptions from Certain Provisions of the Act:

None.

HUD/DEPT-20

System name:

Single Family Homeownership Assistance Application and Recertification.

System location:

HUD Headquarters.

Categories of individuals covered by the system:

Participants in Section 235 Homeownership Assistance Program.

Categories of records in the system:

Files contain identifying information about mortgagors, such as name, social security number, and address as well as information on income, assets, and family composition required to determine subsidy payment.

Authority for maintenance of the system:

National Housing Act of 1934, Sec. 235(a)(f) (as amended by sec. 101 of the Housing and Urban Development Act of 1968), 12 U.S.C. 1715z.

Routine uses of records maintained in the system, including categories of users and the purposes of such uses:

In addition to those disclosures generally permitted under 5 U.S.C. 552a(b) of the Privacy Act, other routine uses are as follows:

(a) To the servicing mortgagee to give notice of miscalculations or other errors in subsidy computation.

(b) To IRS to report subsidy amounts as income.

(c) To title insurance companies or financial institutions for payoff figures.

(d) To the FBI to investigate possible fraud revealed in the course of servicing efforts.

(e) To Department of Justice for prosecution of fraud revealed in the course of servicing efforts and for the institution of suit or other proceedings to effect collections.

(f) To General Accounting Office for audit purposes.

(g) To welfare agencies for fraud investigation.

Policies and practices for storing, retrieving, accessing, retaining, and disposing of records in the system:

Storage:

Records are stored in case files and on magnetic tape/disc/drum.

Retrievability:

Manual records are retrieved by case file number; automated records are retrieved by case file number, mortgagor name and social security number.

Safeguards:

Computer facilities are secured and accessible only by authorized personnel, and all files are stored in a secured area. Technical restraints are employed with regard to accessing the computer and data files.

Retention and disposal:

Records system is active and kept up-to-date.

System manager(s) and address:

Director, Program Accounting Division, FBBP, Department of Housing and Urban Development, 451 Seventh Street, SW, Washington, DC 20410.

Notification procedure:

For information, assistance, or inquiry about existence of records, contact the Privacy Act Officer at the Headquarters location, in accordance with 24 CFR part 16. This location is given in Appendix A.

Record access procedures:

The Department's rules for providing access to records to the individual concerned, appear in 24 CFR part 16. If additional information or assistance is required, contact the Privacy Act Officer at Headquarters. This location is given in Appendix A.

Contesting record procedures:

The Department's rules for contesting the contents of records and appealing initial denials, by the individual concerned, appear in 24 CFR part 16. If additional information or assistance is needed it may be obtained by contacting: (i) In relation to contesting contents of records, the Privacy Act Officer at the Headquarters location. This location is given in Appendix A; (ii) in relation to appeals of initial denials, the HUD Departmental Privacy Appeals Officer, Office of General Counsel, Department of Housing and Urban Development, 451 Seventh Street, SW, Washington, DC 20410.

Record source categories:

Mortgagors' applications and recertifications of income.

Exemptions from Certain Provisions of the Act:

None.

HUD/DEPT-43

System name:

Property Disposition Files (A43; A43C; A80S).

System location:

HUD Headquarters, HUD's Philadelphia, Atlanta, Denver and Santa Ana Homeownership Centers [HOCs] and multiple contractor sites. For a complete listing of these offices, with addresses, see Appendix A.

Categories of individuals covered by the system:

Mortgagors with HUD/FHA insured single family homes who have had their mortgages foreclosed and properties acquired by HUD; individuals who have had their properties acquired by the Department of Defense and transferred to HUD; single family mortgagors who defaulted on Section 312 loans and had their properties acquired by HUD; and potential buyers of HUD-held single-family properties.

Categories of records in the system:

Documents pertaining to acquisition of foreclosed HUD/FHA insured single family homes and single family homes transferred from the Department of Defense. The documents include names, addresses, loan amounts and payments, and reasons for default; leases and rental information if properties are rented; purchasers' family characteristics, income and employment histories, credit reports, sales contracts, and settlement costs; and related correspondence.

Authority for maintenance of the system:

National Housing Act of 1937 as amended (Pub. L. 75-412).

Routine uses of records maintained in the system, including categories of users and the purposes of such uses:

In addition to those disclosures generally permitted under 5 U.S.C. 552a(b) of the Privacy Act, other routine uses are as follows:

(a) To IRS for auditing individual income tax returns;

(b) To insurance companies to file claims for amounts due;

(c) To mortgagees to review the credit of prospective purchasers;

(d) To local public authorities to check on acquisition, reuse and sales of real estate;

(e) To real estate management and marketing contractors who are performing HUD's property disposition activities in specific geographic areas.

Policies and practices for storing, retrieving, accessing, retaining, and disposing of records in the system:

Storage:

In file folders, disks, tapes, electronic records in multiple computer record systems. Secure records maintenance requirements are incorporated into the real estate marketing and management contracts.

Retrievability:

FHA Case number, property address, and by former mortgagor's name. Data on a current/recent purchaser of a HUD owned property.

Safeguards:

Lockable file cabinet; secured computer facilities at HUD and at the contractor's offices. There are background checks of all Contractor staff. Computer access to multiple HUD record systems is restricted by passwords, defined individual access profiles, restricted access to specified data fields. Data Transmission over secure T-1 and Shiva lines. Information about the properties is available to the public via the Internet for marketing purposes. However, information covered by the Privacy Act of 1974 and the Right to Financial Privacy Act (12 U.S.C. 3401) is not incorporated in any Internet site.

Retention and disposal:

Obsolete records are destroyed or sent to storage facility in accordance with HUD Handbook.

System manager(s) and address:

Director, Single Family Asset Management Division, HUAM, Office of Single Family Housing, Department of Housing and Urban Development, 451 Seventh Street, SW., Washington, DC 20410.

Notification procedure:

For information, assistance, or inquiry about existence of records, contact the Privacy Act Officer at the appropriate location, in accordance with 24 CFR part 16. A list of all locations is given in Appendix A.

Record access procedures:

The Department's rules for providing access to records to the individual concerned appear in 24 CFR part 16. If additional information or assistance is required, contact the Privacy Act Officer at the appropriate location. A list of all locations is given in Appendix A.

Contesting record procedures:

The Department's rules for contesting the contents of records and appealing initial denials, by the individual concerned, appear in 24 CFR part 16. If additional information or assistance is needed, it may be obtained by contacting: (i) In relation to contesting contents of records, the Privacy Act Officer at the appropriate location. A list of all locations is given in Appendix A; (ii) in relation to appeals of initial denials, the HUD Departmental Privacy Appeals Officer, Office of General Counsel, Department of Housing and Urban Development, 451 Seventh Street, SW., Washington, DC 20410.

Record source categories:

HUD/FHA Claims for Insurance Benefits, subject individuals; other individuals; current or previous employers; credit bureaus; financial institutions; other corporations or firms; federal government agencies; non-federal (including foreign, state and local) government agencies; real estate brokers and agents.

Exemptions from Certain Provisions of the Act:

None.

HUD/DEPT-4

System name:

Fee Inspectors and Appraisers.

System location:

Home Ownership Centers in Atlanta, Denver, Philadelphia and Santa Ana.

Categories of individuals covered by the system:

Individuals who have applied to HUD for appointment as roster appraisers, and fee inspectors.

Categories of records in the system:

Applications and résumés containing personal data and qualifications for position sought; assignment logs, fees paid and appraisals made; and evaluation of qualifications and of appraisals made.

Authority for maintenance of the system:

Sections 203 and 226 of the National Housing Act, Pub. L. 73-479.

Routine uses of records maintained in the system, including categories of users and the purposes of such uses:

In addition to those disclosures generally permitted under 5 U.S.C. 552a(b) of the Privacy Act, other routine uses are as follows:

(a) To roster appraisers for appraisal preparation;

(b) To VA, mortgagors, mortgagees notice of FHA action, billing;

(c) To local government officials for code enforcement, health and wetlands clearance;

(d) To Environmental Protection Agency for environmental clearance;

(e) To Social Security Administration for research.

Policies and practices for storing, retrieving, accessing, retaining, and disposing of records in the system:

Storage:

CHUMS.

Retrievability:

Name; case file number (in some cases).

Safeguards:

Lockable file cabinets and desks.

Retention and disposal:

Primarily active information; also mixed historical and active. Social Security appraisals are historical data. Disposal in accordance with HUD Handbook 2225.6, Records Disposition Management HUD Records Schedules.

System manager(s) and address:

Director, Single Family Home Mortgage Insurance Division, HUAHM, Department of Housing and Urban Development, 451 Seventh Street, SW., Washington, DC 20410.

Notification procedure:

For inquiry about existence of records, contact the Privacy Officer at the appropriate location, in accordance with procedures in 24 CFR part 16. If additional information or assistance is required, contact the Privacy Officer at the appropriate location. A list of all locations is given in Appendix A.

Record access procedures:

The Department's rules for providing access to records to the individual concerned appear in 24 CFR part 16. If additional information or assistance is required, contact the Privacy Act Officer at the appropriate location. A list of all locations is given in Appendix A.

Contesting record procedures:

The Department's rules for contesting the contents of records and appealing initial denials, by the individual concerned, appear in 24 CFR part 16. If additional information or assistance is needed, it may be obtained by contacting: (i) In relation to contesting contents of records, the Privacy Act Officer at the appropriate locations. A list of all locations is given in Appendix A; (ii) in relation to appeals of initial denials, the HUD Departmental Privacy Appeals Officer, Office of General Counsel, Department of Housing and Urban Development, 451 Seventh Street, SW., Washington, DC 20410.

Record source categories:

Subject individuals; references; and HUD staff.

Exemptions From Certain Provisions of the Act:

None.

[FR Doc. 02-28481 Filed 11-8-02; 8:45 am]

BILLING CODE 4210-72-P